DEPARTMENT OF ENERGY

Federal Energy Regulatory Commission

[Docket No. RP03-480-000]

Wyoming Interstate Company, Ltd.; Notice of Proposed Changes in FERC Gas Tariff

May 23, 2003.

Take notice that on May 19, 2003, Wyoming Interstate Company, Ltd. (WIC) tendered for filing as part of its FERC Gas Tariff, Second Revised Volume No. 2, the following tariff sheets bearing a proposed effective date June 19, 2003:

Thirteenth Revised Sheet No. 38

Ninth Revised Sheet No. 38A

Third Revised Sheet No. 70

WIC states that the tendered tariff sheets revise the quality specifications for sulphur and further define the thermal content basis for the maximum delivery quantity of gas used in its contracts.

Any person desiring to be heard or to protest said filing should file a motion to intervene or a protest with the Federal Energy Regulatory Commission, 888 First Street, NE., Washington, DC 20426, in accordance with §§ 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 2, 2003.

Magalie R. Salas,
Secretary.

[FR Doc. 03-13627 Filed 5-30-03; 8:45 am]

BILLING CODE 6717-01-P